FEDERAL COMMUNICATIONS COMMISSION

[CC Docket 96-45; DA 03-2469]

Updating Line Counts Used in Calculating High-Cost Support for Non-Rural Carriers

AGENCY: Federal Communications Commission.

ACTION: Notice; solicitation of comments.

SUMMARY: In this document, the Wireline Competition Bureau (Bureau) seeks additional comment on updating line counts in the Commission's forward-looking cost model for purposes of determining support for non-rural carriers following a Commission decision in the Ninth Report and Order, 64 FR 67416, December 1, 1999, remand proceeding.

DATES: Comments are due on or before September 2, 2003. Reply Comments are due on or before September 10, 2003.

ADDRESSES: Federal Communications Commission, 445 Twelfth Street, SW., Washington, DC 20554. See Supplementary Information for further filing instructions.

FOR FURTHER INFORMATION CONTACT: Katie King or Thomas Buckley, Attorneys, Wireline Competition Bureau, Telecommunications Access Policy Division (202) 418-7400, TTY (202) 418-0484.

SUPPLEMENTARY INFORMATION: This is a summary of the Bureau's Public Notice, CC Docket No. 96-45, released July 24, 2003. On January 7, 2003, the Bureau released a Public Notice seeking comment on how line count and other discrete input values should be updated for purposes of determining non-rural high-cost support. Consistent with past precedent, the Bureau sought comment on using year-end 2001 line counts filed July 31, 2002, as input values for purposes of estimating average forward-looking costs and determining support for non-rural carriers during 2003. The Bureau also sought comment on using the same methodology that it has used in the past to update special access lines.

In this Public Notice, the Bureau seeks additional comment on issues raised by parties concerning special access line updates in response to the 2003 Line Counts Public Notice, 68 FR 6744, February 10, 2003. The cost model uses simplifying assumptions to estimate the costs of serving high-capacity special access lines, for example by treating DS 3 lines as voice grade equivalents to calculate per-line costs. Some commenters contend that this methodology causes the model to overstate the total number of lines served by non-rural carriers and, therefore, to underestimate per-line costs. Commenters maintain that recent DS 3 special access line growth exacerbates these effects. In addition, some commenters argue that allocating special access lines reported in ARMIS to wire centers based on the 1999 Data Request understates per-line costs in rural and high-cost areas by assigning too many special access lines to these areas.

Therefore, the Bureau seeks additional comment on updating special access lines in the model for purposes of determining non-rural high-cost support. The Bureau seeks comment on whether, in light of recent special access line growth trends, zeroing out special access lines in the cost model's calculations would be a reasonable approach to estimating costs using the current model platform. Alternatively, the Bureau seeks comment on other proposals for estimating special line growth. In the event that the Bureau decides to update special access lines, consistent with its prior practice, the Bureau also seeks comment on whether it should continue to allocate these updated special access lines to wire centers based on the 1999 Data Request, or whether it should use an alternative methodology.

The Bureau seeks comment on whether to update the cost model with year-end 2002 line count data filed July 31, 2003 for purposes of estimating average forward-looking costs and determining support for non-rural carriers following a Commission decision in the Ninth Report and Order remand proceeding. The Bureau notes that new line count data will be available shortly. Moreover, in light of the statutory deadline of October 16, 2003, for a Commission decision in the remand proceeding, it is unlikely that the new version of the forward-looking cost model with updated inputs will be utilized for purposes of calculating support until January 1, 2004.

Pursuant to sections 1.415 and 1.419 of the Commission's rules, interested parties may file comments as follows: Comments are due on or before September 2, 2003, and reply comments are due on or before September 10, 2003. Comments may be filed using the Commission's Electronic Comment Filing System (ECFS) or by filing paper copies. See Electronic Filing of Documents in Rulemaking Proceedings, 63 FR 24121, May 1, 1998.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission.

Parties also must send three paper copies of their filing to Sheryl Todd, Telecommunications Access Policy Division, Wireline Competition Bureau, Federal Communications Commission, 445 12th Street SW., Room 5-B540, Washington, DC 20554. In addition, commenters must send diskette copies to the Commission's copy contractor, Qualex International, Portals II, 445 12th Street, SW., Room CY-B402, Washington, DC 20054.

Pursuant to section 1.1206 of the Commission's rules, this proceeding will be conducted as a permit-but-disclose proceeding in which ex parte communications are permitted subject to disclosure.

Federal Communications Commission.
William Scher,
Assistant Division Chief, Wireline Competition Bureau, Telecommunications Access Policy Division.

[FR Doc. 03-20324 Filed 8-8-03; 8:45 am]

BILLING CODE 6712-01-P